DEPARTMENT OF HEALTH AND HUMAN SERVICES

Food and Drug Administration

[Docket Nos. FDA-2017-N-0558; FDA-2017-N-1315; FDA-2011-N-0776; FDA-2018-N-3038; FDA-2018-N-0405; FDA-2014-N-1048; FDA-2011-N-0908; FDA-2011-N-0920; and FDA-2018-N-1857]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved By OMB
Title of collection | OMB control No. | Date approval expires
Disclosures in Professional and Consumer Prescription Drug Promotion | 0910-0860 | 9/30/2020
Experimental Study of Risk Information Amount and Location in Direct-to-Consumer Print Ads | 0910-0861 | 9/30/2020
Reclassification Petitions for Medical Devices | 0910-0138 | 9/30/2021
Request for Samples and Protocols | 0910-0206 | 9/30/2021
Medical Device Recall Authority | 0910-0432 | 9/30/2021
Food Safety, Health, and Diet Survey | 0910-0345 | 10/31/2020
Medical Device Labeling Regulations | 0910-0485 | 10/30/2021
GFI: Clinical Trial Sponsors on the Establishment and Operation of Clinical Trial Data Monitoring Committees | 0910-0581 | 10/31/2021
Current Good Manufacturing Practice and Hazard Analysis and Risk-Based Preventive Controls for Human Food | 0910-0751 | 10/31/2021
Current Good Manufacturing Practice and Hazard Analysis and Risk-Based Preventive Controls for Food for Animals | 0910-0789 | 10/31/2021

Dated: November 5, 2018.
Leslie Kux,
Associate Commissioner for Policy.

[FR Doc. 2018-24609 Filed 11-9-18; 8:45 am]

BILLING CODE 4164-01-P